DEPARTMENT OF DEFENSE

Office of the Secretary

32 CFR Part 279

[Docket ID: DOD-2018-OS-0071]

RIN 0790-AK39

Retroactive Stop Loss Special Pay Compensation

AGENCY: Under Secretary of Defense (Personnel and Readiness), DoD.

ACTION: Final rule.

SUMMARY: This final rule removes DoD's regulation which contains obsolete DoD policy regarding Retroactive Stop Loss Special Pay Compensation, a program which was terminated on October 21, 2012. In accordance with law, this rule was issued to provide for Retroactive Stop Loss Special Pay. The last day for submission of claims to the Secretaries of the Military Departments was October 21, 2012. Following that date, the Secretaries concerned are not authorized to make payments.

DATES: This rule is effective on February 1, 2019.

FOR FURTHER INFORMATION CONTACT: Colonel David Feeley, (703) 693-2195 or david.c.feeley.mil@mail.mil.

SUPPLEMENTARY INFORMATION: It has been determined that publication of this CFR part removal for public comment is impracticable, unnecessary, and contrary to public interest since it is based on removing obsolete DoD policies.

This rule is not significant under Executive Order (EO) 12866, “Regulatory Planning and Review”; therefore, the requirements of E.O. 13771, “Reducing Regulation and Controlling Regulatory Costs,” do not apply.

List of Subjects in 32 CFR Part 279

Armed forces, Claims, Reporting and recordkeeping requirements, Wages.

PART 279—[REMOVED]

Accordingly, by the authority of 5 U.S.C. 301, 32 CFR part 279 is removed.

Dated: January 28, 2019.
Aaron T. Siegel,
Alternate OSD Federal Register Liaison Officer, Department of Defense.

[FR Doc. 2019-00486 Filed 1-31-19; 8:45 am]

BILLING CODE 5001-06-P